DEPARTMENT OF DEFENSE

[OMB Control Number 0704-0214]

Information Collection Requirement; Defense Federal Acquisition Regulation Supplement; Special Contracting Methods

AGENCY: Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through September 30, 2005. DoD proposes that OMB extend its approval for use through September 30, 2008.

DATES: DoD will consider all comments received by August 1, 2005.

ADDRESSES: You may submit comments, identified by OMB Control Number 0704-0214, using any of the following methods:

• Defense Acquisition Regulations Web site: http://emissary.acq.osd.mil/dar/dfars.nsf/pubcomm. Follow the instructions for submitting comments.

• E-mail: dfars@osd.mil. Include OMB Control Number 0704-0214 in the subject line of the message.

• Fax: (703) 602-0350.

• Mail: Defense Acquisition Regulations Council, Attn: Ms. Robin Schulze, OUSD(AT&L)DPAP(DAR), IMD 3C132, 3062 Defense Pentagon, Washington, DC 20301-3062.

• Hand Delivery/Courier: Defense Acquisition Regulations Council, Crystal Square 4, Suite 200A, 241 18th Street, Arlington, VA 22202-3402.

All comments received will be posted to http://emissary.acq.osd.mil/dar/dfars.nsf.

FOR FURTHER INFORMATION CONTACT: Ms. Robin Schulze, (703) 602-0326. The information collection requirements addressed in this notice are available electronically via the Internet at: http://www.acq.osd.mil/dpap/dars/dfars/index.htm. Paper copies are available from Ms. Robin Schulze, OUSD(AT&L)DPAP(DAR), IMD 3C132, 3062 Defense Pentagon, Washington, DC 20301-3062.

SUPPLEMENTARY INFORMATION: Title and OMB Number: Defense Federal Acquisition Regulation Supplement (DFARS) Part 217, Special Contracting Methods, and related provisions and clauses at DFARS 252.217-7012, Liability and Insurance, DFARS 252.217-7018, Change in Plant Location—Bakery and Dairy Products, DFARS 252.217-7026, Identification of Sources of Supply, and 252.217-7028, Over and Above Work; OMB Control Number 0704-0214.

Needs and Uses: Contracting officers use the information required by the provisions and clauses prescribed in DFARS Part 217 as follows:

The clause at DFARS 252.217-7012 is used in master agreements for repair and alteration of vessels. Contracting officers use the information required by paragraph (d) of the clause to determine if the contractor is adequately insured. Contracting officers use the information required by paragraphs (f) and (g) of the clause to keep informed of lost or damaged property for which the Government is liable, and to determine the appropriate course of action for replacement or repair of the property.

Contracting officers use the information required by the clause at DFARS 252.217-7018 to determine the place of performance under contracts for bakery and dairy products. This information helps to ensure that food products are manufactured and processed in sanitary facilities.

Contracting officers use the information required by the provision at DFARS 252.217-7026 to identify the apparently successful offeror's sources of supply so that competition can be enhanced in future acquisitions. This collection complies with 10 U.S.C. 2384, Supplies: identification of supplier and sources, which requires the contractor to identify the actual manufacturer or all sources of supply for supplies furnished under contract to DoD.

Contracting officers use the information required by the clause at 252.217-7028 to determine the extent of “over and above” work before the work commences. This requirement allows the Government to review the need for pending work before the contractor begins performance.

Affected Public: Businesses or other for-profit and not-for-profit institutions.

Annual Burden Hours: 785,244.

Number of Respondents: 49,944.

Responses Per Respondent: Approximately 1.5.

Annual Responses: 75,944.

Average Burden Per Response: Approximately 10.3 hours.

Frequency: On occasion.

Summary of Information Collection

Each provision or clause requires the offeror or contractor to submit certain information:

a. Paragraph (d)(3) of the clause at DFARS 252.217-7012 requires the contractor to show evidence of insurance under a master agreement for vessel repair and alteration. Paragraphs (f) and (g) of the clause require the contractor to notify the contracting officer of any property loss or damage for which the Government is liable, and to submit to the contracting officer a request for reimbursement of the cost of replacement or repair with supporting documentation.

b. Paragraphs (b) and (c) of the clause at DFARS 252.217-7018 require the offeror or contractor to obtain contracting officer approval before changing the place of performance of a contract for bakery or dairy products.

c. Paragraph (b) of the provision at DFARS 252.217-7026 requires the apparently successful offeror to identify its sources of supply.

d. Paragraphs (c) and (e) of the clause at DFARS 252.217-7028 require the contractor to submit to the contracting officer a work request and a proposal for “over and above” work.

Michele P. Peterson,
Editor, Defense Acquisition Regulations System.

[FR Doc. 05-10912 Filed 6-1-05; 8:45 am]

BILLING CODE 5001-08-P